DEPARTMENT OF HEALTH AND HUMAN SERVICES

National Institutes of Health

National Cancer Institute; Notice of Meeting

Pursuant to section 10(d) of the Federal Advisory Committee Act, as amended, notice is hereby given of the following meeting.

The meeting will be held as a teleconference only and is open to the public to dial-in for participation. Individuals who plan to dial-in to the meeting and need special assistance or other reasonable accommodations in order to do so, should notify the Contact Person listed below in advance of the meeting.

Name of Committee: National Cancer Institute Clinical Trials and Translational Research Advisory Committee; Translational Research Strategy Subcommittee (TRSS).

Date: June 19, 2019,

Time: 10:00 a.m. to 11:00 a.m.

Agenda: Review the Glioblastoma (GBM) Working Group Report.

Place: National Cancer Institute Shady Grove, Shady Grove, 9609 Medical Center Drive, Rockville, MD 20850 (Telephone Conference Call), Phone: 240-276-6500, Conference Code: 1102766460, Passcode: 6460.

Contact Person: Peter Ujhazy, MD, Ph.D., Deputy Associate Director, Translational Research Program, Division of Cancer Treatment and Diagnosis, National Institutes of Health, National Cancer Institute, 9609 Medical Center Drive, Room 3W106, Rockville, MD 20850, 240-276-5681, ujhazyp@mail.nih.gov.

Any interested person may file written comments with the committee by forwarding the statement to the Contact Person listed on this notice. The statement should include the name, address, telephone number and when applicable, the business or professional affiliation of the interested person.

Information is also available on the Institute's/Center's home page: http://deainfo.nci.nih.gov/advisory/ctac/ctac.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: May 21, 2019.
Melanie J. Pantoja,
Program Analyst, Office of Federal Advisory Committee Policy.

[FR Doc. 2019-10944 Filed 5-23-19; 8:45 am]

BILLING CODE 4140-01-P